DEPARTMENT OF TRANSPORTATION

Federal Aviation Administration

14 CFR Part 39

[Docket No. FAA-2018-0696; Product Identifier 2017-SW-101-AD]

RIN 2120-AA64

Airworthiness Directives; Airbus Helicopters Deutschland GmbH Helicopters

AGENCY: Federal Aviation Administration (FAA), DOT.

ACTION: Notice of proposed rulemaking (NPRM).

SUMMARY: We propose to adopt a new airworthiness directive (AD) for Airbus Helicopters Deutschland GmbH (Airbus Helicopters) Model MBB-BK 117 D-2 helicopters. This proposed AD would require replacing the rescue hoist cable cut pushbutton flip guard (flip guard). This proposed AD is prompted by reports of unintended lifting of several flip guards. The actions of this proposed AD are intended to correct an unsafe condition on these products.

DATES: We must receive comments on this proposed AD by October 26, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2018-0696; or in person at Docket Operations between 9 a.m. and 5 p.m., Monday through Friday, except Federal holidays. The AD docket contains this proposed AD, the European Aviation Safety Agency (EASA) AD, the economic evaluation, any comments received, and other information. The street address for Docket Operations (telephone 800-647-5527) is in the ADDRESSES section. Comments will be available in the AD docket shortly after receipt.

For service information identified in this proposed rule, contact Airbus Helicopters, 2701 N Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy, Room 6N-321, Fort Worth, TX 76177.

FOR FURTHER INFORMATION CONTACT: Clark Davenport, Flight Test Engineer, Flight Test Branch, Compliance and Airworthiness Division, FAA, 10101 Hillwood Parkway, Fort Worth, TX 76177; telephone 817 222 5151; email clark.davenport@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2017-0038, dated February 22, 2017 (AD No. 2017-0038), to correct an unsafe condition for Airbus Helicopters Models MBB-BK 117 D-2 and MBB-BK 117 D-2m helicopters. The EASA AD advises that multiple events were reported of unintended lifting of the flip guard and that the flip guard has two stable positions, open and closed. AD No. 2017-0038 states that if the unintended lifting is not detected, the requirement for dual action when activating the rescue hoist cable cut is not guaranteed. According to EASA, this condition, if not corrected, could result in inadvertent cutting of the rescue hoist cable and subsequent personal injury.

EASA further advises that Airbus Helicopters has developed an improved mono-stable (closed) flip guard, and AD No. 2017-0038 requires installing the new flip guard and re-identifying the collective lever switch unit.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information

Airbus Helicopters has issued Alert Service Bulletin No. MBB-BK117 D-2-67A-002, Revision 0, dated January 23, 2017, which contains procedures for replacing flip guard part number (P/N) 79552176 with improved flip guard P/N 79553511 and for identifying the collective lever switch unit with the Alert Service Bulletin number.

Proposed AD Requirements

This proposed AD would require before the next hoist operation or within 440 hours time in service (TIS), whichever occurs first, replacing the flip guard with flip guard P/N 79553511 on the collective lever switch unit.

Differences Between This Proposed AD and the EASA AD

The EASA AD applies to Model MBB-BK 117 D-2m helicopters; this proposed AD would not as these models are not type certificated in the U.S. Also, the EASA AD requires compliance within 440 hours TIS, this proposed AD would require compliance before the next hoist operation or within 440 hours TIS, whichever occurs first. Finally, the EASA AD requires identifying the collective lever switch unit with the service information number; this proposed AD would not.

Costs of Compliance

We estimate that this proposed AD would affect 21 helicopters of U.S. Registry.

At an average labor rate of $85 per hour, we estimate that operators would incur the following costs in order to comply with this proposed AD. Replacing the flip guard would require about 14 hours, and required parts would cost $735, for a cost per helicopter of $1,925 and a cost of $40,148 to the U.S. fleet.

According to Airbus Helicopter's service information, some of the costs of this proposed AD may be covered under warranty, thereby reducing the cost impact on affected individuals. We do not control warranty coverage by Airbus Helicopters. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH: Docket No. FAA-2018-0696; Product Identifier 2017-SW-101-AD.

(a) Applicability

This AD applies to Airbus Helicopters Deutschland GmbH Model MBB-BK 117 D-2 helicopters, certificated in any category, with a cable cut flip guard (flip guard) part number (P/N) 79552176 installed.

(b) Unsafe Condition

This AD defines the unsafe condition as unintended lifting of a flip guard. This condition could result in inadvertent cutting of the rescue hoist cable and subsequent personal injury.

(c) Comments Due Date

We must receive comments by October 26, 2018.

(d) Compliance

You are responsible for performing each action required by this AD within the specified compliance time unless it has already been accomplished prior to that time.

(e) Required Actions

Before the next hoist operation or within 440 hours time in service (TIS), whichever occurs first, remove flip guard P/N 79552176 from service and install flip guard P/N 79553511 on the collective lever switch unit.

(f) Alternative Methods of Compliance (AMOCs)

(1) The Manager, Safety Management Section, Rotorcraft Standards Branch, FAA, may approve AMOCs for this AD. Send your proposal to: Clark Davenport, Flight Test Engineer, Flight Test Branch, Compliance and Airworthiness Division, FAA, 10101 Hillwood Parkway, Fort Worth, TX 76177; telephone 817 222 5151; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Airbus Helicopters Alert Service Bulletin No. MBB-BK117 D-2-67A-002, Revision 0, dated January 23, 2017, which is not incorporated by reference, contains additional information about the subject of this AD. For service information identified in this AD, contact Airbus Helicopters, 2701 N Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy, Room 6N-321, Fort Worth, TX 76177.

(2) The subject of this AD is addressed in European Aviation Safety Agency (EASA) AD No. 2017-0038, dated February 22, 2017. You may view the EASA AD on the internet at http://www.regulations.gov in the AD Docket.

(h) Subject

Joint Aircraft Service Component (JASC) Code: 6700 Rotorcraft Flight Control.

Issued in Fort Worth, Texas, on August 13, 2018.
Mitchell Soth,
Acting Director, Compliance & Airworthiness Division, Aircraft Certification Service.

[FR Doc. 2018-18346 Filed 8-24-18; 8:45 am]

BILLING CODE 4910-13-P